DEPARTMENT OF THE INTERIOR

National Park Service

Notice of Intent to Repatriate Cultural Items: New York State Museum, Albany, NY

AGENCY: National Park Service, Interior.

ACTION: Notice.

Notice is here given in accordance with the Native American Graves Protection and Repatriation Act (NAGPRA), 25 U.S.C. 3005, of the intent to repatriate cultural items in the possession of the New York State Museum, Albany, NY, that meet the definition of “sacred objects” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

At an unknown date, Harriet Maxwell Converse of New York City, NY, acquired six carved wooden masks known as False Face masks or Kakhonsas. According to museum records, Mrs. Converse was a frequent visitor to the Six Nations Reserve, Ontario, Canada, and the six Kakhonsas may have been collected there. In 1898, Mrs. Converse donated the Kakhonsas to the New York State Museum. Museum records identify the Kakhonsas as Canadian Mohawk. Mask number E-47 is black with long gray hair and round brass eyes, and is approximately 12 inches long and 6 1/2 inches wide. Mask number E-4336 is greenish-brown and is 11 1/4 inches long and 7 inches wide. Mask number E-36921 is black with long black hair and round tin eyes and is 9 1/2 inches long and 6 inches wide. Mask number E-37618 is reddish brown with tin eyes and is 11 inches high and 6 inches wide. Mask number E-37024 is red with black features and tin eyes, and is 11 3/4 inches high and 7 inches wide. Mask number E-37029 is red and black with a crooked nose and is 11 3/4 inches long and 6 3/4 inches wide.

Mohawk traditional religious leaders identify the Kakhonsas as needed for the practice of traditional Native American religions by present-day adherents. Oral evidence presented during consultation by representatives of the St. Regis Band of Mohawk Indians of New York and Mohawk Nation Council of Chiefs representatives, and museum documentation indicate that the Kakhonsas are culturally affiliated with the Mohawk.

The Mohawk people traditionally occupied the middle Mohawk Valley and northeastern upstate New York. As early as the 17th century, some Mohawk began moving north into settlements on the St. Lawrence River, including St. Regis, NY. By the end of the American Revolution in 1784, most Mohawk had settled in Canada, including the Six Nations Reserve in Ontario.

In the United States, the Mohawk people are represented by the Mohawk Nation Council of Chiefs and the federally recognized St. Regis Band of Mohawk Indians of New York. The St. Regis Band of Mohawk Indians of New York is part of the Mohawk Nation. The six masks were probably collected at the Six Nations Reserve in Ontario, Canada. The Mohawks on the Six Nations Reserve in Ontario, represented by the Six Nations Confederacy Council, supports the Mohawk traditional religious leaders' claim for these cultural items. Furthermore, the St. Regis Band of Mohawk Indians of New York have informed the New York State Museum that the tribe and the Mohawk Nation Council of Chiefs are acting in conjunction with the Mohawk community of Canada in this matter.

Officials of the New York State Museum have determined that, pursuant to 25 U.S.C. 3001 (3)(C), the six cultural items described above are specific ceremonial items needed by traditional Native American religious leaders for the practice of traditional Native American religions by their present-day adherents. Officials of the New York State Museum also have determined that, pursuant to 25 U.S.C. 3001 (2), there is a relationship of shared group identity that can be reasonably traced between the sacred objects and the St. Regis Band of Mohawk Indians of New York and the Mohawk Nation Council of Chiefs.

Representatives of any other Indian tribe that believes itself to be culturally affiliated with the sacred objects should contact Lisa Anderson, NAGPRA Coordinator, New York State Museum, 3122 Cultural Education Center, Albany, NY 12230, telephone (518) 486-2020 before January 9, 2006. Repatriation of the sacred objects to the St. Regis Band of Mohawk Indians of New York may proceed after that date if no additional claimants come forward.

New York State Museum is responsible for notifying the Six Nations Reserve, Ontario, Canada and St. Regis Band of Mohawk Indians of New York that this notice has been published.

Dated: October 11, 2005
Sherry Hutt,
Manager, National NAGPRA Program.

[FR Doc. 05-23871 Filed 12-8-05; 8:45 am]

BILLING CODE 4312-50-S